DEPARTMENT OF HOMELAND SECURITY

Office of the Secretary

[Docket No. DHS-2005-0055]

Notice of Meeting of Homeland Security Science and Technology Advisory Committee

AGENCY: Office of Studies and Analysis, Science and Technology Directorate, DHS.

ACTION: Notice.

SUMMARY: The Homeland Security Science and Technology Advisory Committee (HSSTAC) will meet in closed session.

DATES: The meeting dates are August 23, 2005, and August 24, 2005.

ADDRESSES: If you wish to submit comments, you must do so by August 15, 2005. Comments must be identified by DHS-2005-0055 and may be submitted by one of the following methods:

• EPA Federal Partner EDOCKET Web site: http://www.epa.gov/feddocket. Follow instructions for submitting comments on the Web site.

• E-mail: HSSTAC@dhs.gov. Include docket number in the subject line of the message.

• Fax: (202) 254-6177.

• Mail: Ms. Brenda Leckey, Office of Studies and Analysis, Science and Technology Directorate, Department of Homeland Security, Washington, DC 20528.

Docket: For access to the docket to read background documents or comments received, go to http://www.epa.gov/feddocket.

FOR FURTHER INFORMATION CONTACT: Brenda Leckey, Office of Studies and Analysis, Science and Technology Directorate, Department of Homeland Security, Washington, DC 20528, HSSTAC@dhs.gov, 202-254-5041.

SUPPLEMENTARY INFORMATION: Notice of this meeting is given under the Federal Advisory Committee Act (FACA), Pub. L. 92-463, as amended (5 U.S.C. App. 1 et seq.). The HSSTAC will meet for purposes of: (1) Identifying how DHS Science and Technology Directorate portfolios are designed to meet DHS objectives; (2) receiving a report from the Under Secretary for Science and Technology on how the prior year's HSSTAC recommendations are being/will be implemented; (3) receiving a report from the Under Secretary of Science and Technology on the planned Department reorganization and priorities; and (4) receiving subcommittee reports.

Specifically, the HSSTAC will receive briefings from the Science and Technology Directorate's Portfolio Managers identifying how the Portfolios are designed to meet DHS objectives (utilizing threat assessments, user requirements, filling capability needs, reducing vulnerabilities). The HSSTAC will then review the results of its subcommittees' activities undertaken since the last quarterly meeting in May 2005, and discuss any proposed subcommittee recommendations. The Committee will also receive a report from the Under Secretary detailing proposed actions and actions currently being taken by the Directorate as a result of the recommendations contained in the HSSTAC annual report to the Under Secretary and Congress. And lastly, the Committee will review past subcommittee activities, discuss areas of interest for future subcommittee activities, and dispense subcommittee assignments for the annual report to Congress due in January.

In accordance with section 10(d) of the Federal Advisory Committee Act, Public Law 92-463, as amended (5 U.S.C. App. 1 et seq.) and pursuant to the authority delegated to him by the Secretary in DHS Management Directive 2300, the Under Secretary for Science and Technology has determined that this HSSTAC meeting will address: Matters that would disclose investigative techniques and procedures or endanger the lives or physical safety of law enforcement personnel; and matters the disclosure of which would be likely to frustrate significantly proposed agency actions. Accordingly, consistent with the provisions of 5 U.S.C. 552b(c)(7) and (c)(9)(B), the meeting will be closed to the public.

Dated: July 28, 2005.
Charles E. McQueary,
Under Secretary for Science and Technology, Science and Technology Directorate.

[FR Doc. 05-15728 Filed 8-8-05; 8:45 am]

BILLING CODE 4410-10-P